SMALL BUSINESS ADMINISTRATION

[Disaster Declaration #17179 and #17180; Texas Disaster Number TX-00610]

Presidential Declaration Amendment of a Major Disaster for Public Assistance Only for the State of Texas

AGENCY: Small Business Administration.

ACTION: Amendment 1.

SUMMARY: This is an amendment of the Presidential declaration of a major disaster for Public Assistance Only for the State of Texas (FEMA-4586-DR), dated 09/13/2021.

Incident: Severe Winter Storms.

Incident Period: 02/11/2021 through 02/21/2021.

DATES: Issued on 11/12/2021.

Physical Loan Application Deadline Date: 11/12/2021.

Economic Injury (EIDL) Loan Application Deadline Date: 06/13/2022.

ADDRESSES: Submit completed loan applications to:U.S. Small Business Administration,Processing and Disbursement Center,14925 Kingsport Road,Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of Texas, dated 09/13/2021, is hereby amended to include the following areas as adversely affected by the disaster.

Primary Counties:

Archer, Bexar, Brazos, Caldwell, Coleman, Comal, Fayette, Galveston, Jones, Kendall.

All other information in the original declaration remains unchanged.

(Catalog of Federal Domestic Assistance Number 59008)

James Rivera,
Associate Administrator for Disaster Assistance.

[FR Doc. 2021-25271 Filed 11-18-21; 8:45 am]

BILLING CODE 8026-03-P